ENVIRONMENTAL PROTECTION AGENCY

[FRL -6704-9]

Science Advisory Board; Emergency Notification of Public Advisory Committee Meeting

Pursuant to the Federal Advisory Committee Act, Public Law 92-463, notice is hereby given that a subcommittee of the US EPA Science Advisory Board (SAB) will hold a public meeting on the date and time noted. All times noted are Eastern Standard Time. SAB meetings are open to the public, however, seating is limited and available on a first come basis. Important Notice: Documents that are the subject of SAB reviews are normally available from the originating EPA office and are not available from the SAB Office—information concerning availability of documents from the relevant Program Office is included below.

Environmental Engineering Committee (EEC) Teleconference Meeting—June 5, 2000

The Subcommittee on the Diffusion and Adoption of Innovations in Environmental Protection of the Science Advisory Board's (SAB) Environmental Engineering Committee (EEC) will conduct a public teleconference meeting on June 5, 2000 between the hours of 1 and 3 (Eastern Standard Time). The meeting will be coordinated through a conference call connection in room 6013 in the USEPA, Ariel Rios Building North, 1200 Pennsylvania Avenue, NW, Washington, D.C. 20004. The public is encouraged to attend the meeting in the conference room noted above, however, the public may also attend through a telephonic link if lines are available. Additional instructions about how to participate in the conference call can be obtained by calling Ms. Diana Pozun one week prior to the meeting (May 28, 2000) at (202) 564-4544, or via e-mail at pozun.diana@epa.gov.

Purpose of the Meeting—Purpose of the Public Teleconference. The purpose of the public teleconference is to clarify the charge questions for a public workshop being planned for June 28, 2000 and to identify any additional background materials that panel members may need to provide advice to the Agency.

The workshop will be a consultative Workshop on the Diffusion and Adoption of Innovations in Environmental Protection. The purpose of the workshop is to identify how the use of data, theories, and research methods derived from the study of the social process of diffusion and adoption of innovations may improve the adoption of innovative approaches to environmental protection: (a) Within EPA; (b) by state, tribal, and local government partners; and (c) by corporate and non-governmental organization partners in environmental protection. EPA program offices will consider the advice of the workshop panel members in developing strategies to encourage adoption of new strategies for environmental protection especially in the areas of watershed protection, pollution prevention and EPA's Multimedia Strategy for Priority Persistent, Bioaccumulative, and Toxic (PBT) Pollutants, and use of social science tools and cultural profiling.

Charge to the Workshop—The panelists will consider the following charge questions:

(a) What are the different principal process models available for understanding the diffusion process and are some of them more appropriate to the EPA program areas under discussion than others?

(1) What is the role of information and information flow in diffusion and adoption of innovations? How critical are they and how can EPA learn to make them more effective?

(2) What have we learned about designing appropriate incentives for facilitating the adoption process?

(3) How important are social networks to the process of diffusion and adoption of innovation? How can EPA recognize and use them?

(4) What can EPA learn from diffusion efforts undertaken by other partners in environmental protection (state and local agencies, tribes, non-governmental organizations, and corporations)?

(b) What are the principal barriers to diffusion and adoption of innovations in selected EPA program areas? Are there some characteristics intrinsic to certain innovations that make them difficult to diffuse?

(c) How can EPA effectively measure the success of its efforts to encourage diffusion and adoption of innovations?

Availability of Review Materials: The following documents related to EPA's watershed approach can be found on the Internet or contact Louise Wise, telephone 202-260-9108; or via email at wise.louise@epa.gov.

(a) U.S. EPA. 1996. Watershed Approach Framework, (EPA840-S-96-001), Office of Water (4501F), U.S. EPA, Washington, DC, on the Internet at http://www.epa.gov/OWOW/watershed/framework.html.

(b) U. S. EPA. 1997. Statewide Watershed Management Facilitation, (EPA841-R-97-011), Office of Water (4503F), U.S. EPA, Washington, DC., on the Internet at http://www.epa.gov/OWOW/watershed/wacademy/its08/.

(c) U. S. EPA. 1997. Top 10 Watershed Lessons Learned, (EPA840-F-97-001), Office of Water (4501F), U.S. EPA, Washington, DC., on the Internet at http://www.epa.gov/OWOW/lessons/.

(d) Office of Wetlands, Oceans, & Watersheds, Features, on the Internet at http://www.epa.gov/OWOW/highlight.html.

The following documents related to EPA's Multimedia Strategy for Priority Persistent, Bioaccumulative, and Toxic (PBT) Pollutants are available from Thomas Murray, telephone (202)260-1876; or via email at murray.thomas@epa.gov:

(a) Issue Statement.

(b) Persistent, Bioaccumulative, and Toxic Chemicals Initiative, description on the Internet at http://www.epa.gov/pbt.

The following documents related to Social Science Tools: Cultural Profiling are available via mail or email from Theresa Trainor, telephone (202) 260-3009; or via e-mail at trainor.theresa@epa.gov:

(a) The Social Sciences and Environmental Protection: Experiences and Opportunities at the U.S. EPA (Mark Wamsley, July 1999).

(b) Community Cultural Profiling Guide: Understanding a Community's Sense of Place Fact Sheet.

(c) Community Profile of Nebraska's Central Platte River Region, A joint project between The Nature Conservancy and the United States Environmental Protection Agency, November 1, 1999.

For Further Information—Any member of the public wishing further information concerning this meeting or wishing to submit brief oral comments must contact Dr. Angela Nugent, Designated Federal Officer, Science Advisory Board (1400A), U.S. Environmental Protection Agency, 1200 Pennsylvania Avenue, NW, Washington, DC 20460; telephone (202) 564-4562; FAX (202) 501-0582; or via e-mail at nugent.angela@epa.gov. Requests for oral comments must be in writing (e-mail, fax or mail) and received by Dr. Nugent no later than noon Eastern Time on May 28, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 35 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the DFO at least five business days prior to the meeting so that appropriate arrangements can be made.

Dated: May 17, 2000.
Donald G. Barnes,
Staff Director, Science Advisory Board.

[FR Doc. 00-12914 Filed 5-19-00; 8:45 am]

BILLING CODE 6560-50-P